DEPARTMENT OF AGRICULTURE

Forest Service

Lake County Resource Advisory Committee

AGENCY: Forest Service, USDA.

ACTION: Notice of meeting.

SUMMARY: The Lake County Resource Advisory Committee (RAC) will hold a meeting.

DATES: The meeting will be held on April 29, 2004, from 3 p.m. to 6 p.m.

ADDRESSES: The meeting will be held at the Lake County Board of Supervisor's Chambers at 255 North Forbes Street, Lakeport.

FOR FURTHER INFORMATION CONTACT: Debbie McIntosh, Committee Coordinator, USDA, Mendocino National Forest, Upper Lake Ranger District, 10025 Elk Mountain Road, Upper Lake, CA 95485. (707) 275-2361; E-mail dmintosh@fed.us.

SUPPLEMENTARY INFORMATION: Agenda items to be covered include: (1) Roll Call/Establish Quorum; (2) Review and Approval of the Minutes of the January 15, 2004 Meeting; (3) Finalize business for 2003; (4) Reevaluate Previously Submitted Projects Not Approved; (5) Discuss and Set Field Trip Dates; (6) RAC New Letter; (7) Discuss Appointments to RAC for Second Terms; (8) Review New Project for 2004; (9) Recommend Projects for 2004; (10) Discuss Project Cost Accounting USFS/County of Lake; (11) Set next Meeting Date and; (12) Public Comment Period. The meeting is open to the public. Public input opportunity will be provided and individuals will have the opportunity to address the Committee at that time.

Dated: March 4, 2004.
Blaine P. Baker,
Designated Federal Officer.

[FR Doc. 04-5468 Filed 3-10-04; 8:45 am]

BILLING CODE 3410-11-M